DEPARTMENT OF TRANSPORTATION

Office of the Secretary

Application of Aztec Worldwide Airlines, Inc. for Commuter Authority

AGENCY: Department of Transportation.

ACTION: Notice of Order to Show Cause (Order 2016-12-26) Docket DOT-OST-2016-0055

SUMMARY: The Department of Transportation is directing all interested persons to show cause why it should not issue an order finding Aztec Worldwide Airlines, Inc., fit, willing, and able, to provide scheduled passenger service as a commuter air carrier using small aircraft pursuant to Part 135 of the Federal Aviation Regulations, and awarding it a Commuter Air Carrier Authorization.

DATES: Persons wishing to file objections should do so no later than January 12, 2017.

ADDRESSES: Objections and answers to objections should be filed in Docket DOT-OST-2016-0055 and addressed to U.S. Department of Transportation, Docket Operations, (M-30, Room W12-140), 1200 New Jersey Avenue SE., West Building Ground Floor, Washington, DC 20590, and should be served upon the parties listed in Attachment A to the order.

FOR FURTHER INFORMATION CONTACT: Barbara Snoden, Office of Aviation Analysis (X-56, Office W86-471), U.S. Department of Transportation, 1200 New Jersey Avenue SE., Washington, DC 20590, (202) 366-4834.

Dated: December 28, 2016.
Jenny T. Rosenberg,
Acting Assistant Secretary for Aviation and International Affairs.

[FR Doc. 2016-31978 Filed 1-4-17; 8:45 am]

BILLING CODE 4910-9X-P